DEPARTMENT OF DEFENSE

Office of the Secretary

[Docket No. DOD-2010-HA-0177]

Submission for OMB Review; Comment Request

ACTION: Notice.

The Department of Defense has submitted to OMB for clearance, the following proposal for collection of information under the provisions of the Paperwork Reduction Act (44 U.S.C. Chapter 35).

DATES: Consideration will be given to all comments received by May 31, 2012.

Title and OMB Number: Traumatic Brain Injury, Post-Traumatic Stress Disorder, and Long-Term Quality of Life Outcomes in Injured Tri-Service U.S. Military Personnel; OMB Control Number 0720-TBD.

Type of Request: New.

Number of Respondents: 4644.

Responses per Respondent: 2.

Annual Responses: 9288.

Average Burden per Response: 20 minutes.

Annual Burden Hours: 3096 hours.

Needs and Uses: The information collection requirement is necessary for the Naval Health Research Center (NHRC) to carry out the research study it has been tasked to perform. This research study will assess the long-term health impact of injury on quality of life outcomes in injured tri-service U.S. military personnel, with a special focus on the effects of traumatic brain injury (TBI) and Post-traumatic Stress Disorder (PTSD).

Information collected will be used to investigate the long-term effects of injury, TBI, and PTSD on the overall physical and psychological health of military personnel injured in overseas contingency operations. Participants will respond to a health-related questionnaire bi-annually for three to six years. Respondents to this study will include both active-duty and separated members of all branches of the U.S. Armed Forces.

Affected Public: Individuals or households.

Frequency: Bi-annual.

Respondent's Obligation: Voluntary.

OMB Desk Officer: Mr. John Kraemer.

Written comments and recommendations on the proposed information collection should be sent to Mr. Kraemer at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Ms. Patricia Toppings.

Written requests for copies of the information collection proposal should be sent to Ms. Toppings at WHS/ESD Information Management Division, 4800 Mark Center Drive, East Tower, Suite 02G09, Alexandria, VA 22350-3100.

Dated: February 15, 2012.
Patricia L. Toppings,
OSD Federal Register Liaison Officer, Department of Defense.

[FR Doc. 2012-10400 Filed 4-30-12; 8:45 am]

BILLING CODE 5001-06-P